DEPARTMENT OF COMMERCE

National Oceanic and Atmospheric Administration

RIN 0648-XA435

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a conference call of the Groundfish Essential Fish Habitat Review Committee (EFHRC) that is open to the public.

DATES: The conference call will be held Tuesday, May 31, 2011, from 12 p.m. until 2 p.m. Pacific Time.

ADDRESSES: A listening station will be available to the public, in the Small Conference Room at the Pacific Council offices, 7700 NE. Ambassador Place, Suite 101, Portland, OR 97220.

FOR FURTHER INFORMATION CONTACT: Kerry Griffin, Staff Officer; telephone: (503) 820-2280.

SUPPLEMENTARY INFORMATION: The purpose of the conference call is to plan for acquiring data and information pertinent to a review of groundfish essential fish habitat, to summarize the Pacific Council action from the April 2011 meeting, and to discuss the next steps and future meetings. Other issues relevant to the Pacific Coast groundfish EFH review may be addressed as time permits.

Although non-emergency issues not contained in the meeting agenda may come before the EFHRC for discussion, those issues may not be the subject of formal action during this meeting. EFHRC action will be restricted to those issues specifically listed in this notice and any issues arising after publication of this notice that require emergency action under Section 305(c) of the Magnuson-Stevens Fishery Conservation and Management Act, provided the public has been notified of the EFHRC's intent to take final action to address the emergency.

Special Accommodations

This meeting is physically accessible to people with disabilities. Requests for sign language interpretation or other auxiliary aids should be directed to Mr. Kris Kleinschmidt at (503) 820-2280 at least 5 days prior to the meeting date.

Dated: May 10, 2011.
Tracey L. Thompson,
Acting Director, Office of Sustainable Fisheries, National Marine Fisheries Service.

[FR Doc. 2011-11747 Filed 5-12-11; 8:45 am]

BILLING CODE 3510-22-P